ENVIRONMENTAL PROTECTION AGENCY

[EPA-HQ-OPP-2010-0014; FRL-8870-6]

Notice of Receipt of Requests To Voluntarily Cancel Certain Pesticide Registrations

AGENCY: Environmental Protection Agency (EPA).

ACTION: Notice.

SUMMARY: In accordance with section 6(f)(1) of the Federal Insecticide, Fungicide, and Rodenticide Act (FIFRA), as amended, EPA is issuing a notice of receipt of requests by registrants to voluntarily cancel certain pesticide registrations. EPA intends to grant these requests at the close of the comment period for this announcement unless the Agency receives substantive comments within the comment period that would merit its further review of the requests, or unless the registrants withdraw their requests. If these requests are granted, any sale, distribution, or use of products listed in this notice will be permitted after the registrations have been cancelled only if such sale, distribution, or use is consistent with the terms as described in the final order.

DATES: Comments must be received on or before October 24, 2011.

ADDRESSES: Submit your comments, identified by docket identification (ID) number EPA-HQ-OPP-2010-0014, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

Submit written withdrawal request by mail to: Pesticide Re-evaluation Division (7508P), Office of Pesticide Programs, Environmental Protection Agency, 1200 Pennsylvania Ave., NW., Washington, DC 20460-0001. ATTN: Maia Tatinclaux.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to docket ID number EPA-HQ-OPP-2010-0014. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov Web site is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: Maia Tatinclaux, Pesticide Re-evaluation Division (7508P), Office of Pesticide Programs, Environmental Protection Agency, 1200 Pennsylvania Ave., NW., Washington, DC 20460-0001; telephone number: (703) 347-0123; e-mail address: tatinclaux.maia@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. If you have any questions regarding the information in this notice, consult the person listed under FOR FURTHER INFORMATION CONTACT.

B. What should I consider as I prepare my comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. What action is the Agency taking?

This notice announces receipt by the Agency of requests from registrants to cancel 251 pesticide products registered under FIFRA section 3 or 24(c). These registrations are listed in sequence by registration number (or company number and 24(c) number) in Tables 1 and 2 of this unit.

Table 2 contains a list of registrations for which companies paying at one of the maintenance fee caps requested cancellation in the FY 2011 maintenance fee billing cycle. Because maintaining these registrations as active would require no additional fee, the Agency is treating these requests as voluntary cancellations under Section 6(f)(1).

The cancellation of 66222-64 Thionex Technical pursuant to this Notice supersedes the cancellation of 66222-64 Thionex Technical pursuant to the cancellation order issued by EPA on November 10, 2010, (75 FR 69065). Therefore, the terms for disposing of existing stocks of 66222-64 Thionex Technical are governed solely by this Notice.

Unless the Agency determines that there are substantive comments that warrant further review of the requests or the registrants withdraw their requests, EPA intends to issue an order in the Federal Register canceling all of the affected registrations.

Table 1—Registrations With Pending Requests for Cancellation
Registration No. | Product name | Chemical name
000432-00961 | Banol C | Chlorothalonil Propamocarb hydrochloride.
002749-00545 | Trifluralin Technical | Trifluralin.
004822-00513 | Raid FIK Formula H1A | Tetramethrin Permethrin d-Allethrin.
007969-00161 | Dazomet Technical | Dazomet.
037982-00002 | Chlorine Gas | Chlorine.
045851-00001 | Chlorine | Chlorine.
053883-00082 | CSI 30-30 | Piperonyl butoxide Permethrin.
053883-00083 | CSI 2-2 ULV | Piperonyl butoxide Permethrin.
053883-00085 | CSI 4-4 ULV | Piperonyl butoxide Permethrin.
056410-00001 | Liquified Chlorine Gas Under Pressure | Chlorine.
066591-00003 | Green's Clear Wood Preservative | Zinc naphthenate.
068708-00008 | EC6107A | N-(coco alkyl)trimethylenediamine.
070299-00001 | Zerotol Algaecide Fungicide | Hydrogen peroxide.
070299-00002 | Oxidate Broad Spectrum Bactericide/Fungicide | Hydrogen peroxide.
070299-00003 | Terracite | Sodium percarbonate.
074530-00039 | Heloprid 2 AG | Imidacloprid.
074530-00040 | Heloprid 4 | Imidacloprid.
AZ050001 | Riverdale Endurance Herbicide | Prodiamine.
AZ050011 | Select Max Herbicide With Inside Technology | Clethodim.
AZ060005 | Goaltender | Oxyfluorfen.
AZ960003 | Vectobac G Biological Larvacide Granules | Bacillus thuringiensis subsp. Israelensis.
AZ980001 | Treflan H.E.P. | Trifluralin.
CA030009 | Merit 75 WSP | Imidacloprid.
HI090002 | Mite Away Quick Strips | Formic acid.
OR060018 | Sprout Nip Emulsifiable Concentrate | Chlorpropham.
OR060026 | Rozol Pellets | Chlorophacinone.
OR080003 | Mustang Max EC Insecticide | Zeta-Cypermethrin.
VT900002 | Bonide Orchard Mouse Bait | Zinc phosphide (Zn3P2).
WA050008 | Everest 70% Water Dispersible Granular Herbicide | Flucarbazone-sodium.
WA060001 | Manzate 200 DF Fungicide | Mancozeb.
WA080012 | Pristine Fungicide | Pyraclostrobin boscalid.

Table 2—Registrations With Pending Requests for Voluntary Cancellation Due to Maintenance Fees
Registration No. | Product name | Chemical name
000100-00530 | Methidathion Technical | Methidathion.
000100-00835 | Thiolux Dry Flowable Micronized Sulfur | Sulfur.
000100-01049 | Karate CSO Insecticide | lambda-Cyhalothrin.
000228-00387 | Riverdale Magellan | Phosphorous acid.
000228-00440 | Acephate Tree, Turf & Ornamental Spray 97 | Acephate.
000228-00448 | Multitude 75wsp Insecticide | Acephate.
000228-00487 | Imidacloprid Pco Flowable | Imidacloprid.
000228-00618 | Bifenthrin G-Pro Termiticide/insecticide | Bifenthrin.
000228-00661 | Acephate E-Ag 90 EG Insecticide | Acephate.
000228-00662 | Acephate E 75 WP Insecticide | Acephate.
000228-00667 | Lambda-Cy E-Pro OS Insecticide | lambda-Cyhalothrin.
000228-00669 | Lambda-Cy E-Pro GC Insecticide | lambda-Cyhalothrin.
000239-02515 | Ortho Poison Ivy and Poison Oak Control | Triclopyr,triethylamine salt.
000239-02642 | Bug-B-Gon Insect Killer 1 | Cyfluthrin.
000239-02649 | Bug-B-Gon Ready-Spray Insect Killer | Cyfluthrin.
000239-02650 | Bug-B-Gon Insect Killer Concentrate | Cyfluthrin.
000239-02667 | Grub-B-Gon Granular Insecticide | Benzoic acid,4-chloro-,2-benzoyl-2-(1,1-dimethylethyl)hydrazide.
000239-02669 | Rosepride Rose & Flower Insect Killer—006% | Bifenthrin.
000239-02680 | Ortho Concentrate Bug-B-Gon Multi-Purpose Insect Killer | Esfenvalerate.
000239-02693 | Ortho 0.1% Deltamethrin Granule | Deltamethrin.
000241-00361 | Detail Herbicide | Imazaquin
|  | Dimethenamid.
000264-00257 | Ethrel Brand Ethephon Plant Growth Regulator | Ethephon.
000264-00377 | Cerone Brand Ethephon Plant Regulator | Ethephon.
000264-00564 | Finish Brand Harvest Aid for Cotton | Ethephon Cyclanilide.
000264-00585 | Finish Brand 6 Harvest Aid for Cotton | Ethephon.
000270-00230 | Menoke Indoor-Outdoor Dog and Cat Repellent | Methylnonylketone.
000270-00255 | Farnam Die Fly | Methomyl cis-9-Tricosene.
000270-00293 | Repel Granular Dog and Cat Repellent | Methylnonylketone.
000270-00317 | Aeh Concentrate Weed, Grass and Brush Killer | Glufosinate.
000270-00318 | Aeh Ready-To-Use Weed and Grass Killer | Glufosinate.
000270-00342 | Adams Pan-San | 1-Decanaminium,N,N-dimethyl-N-octyl-,chloride.
|  | 1-Decanaminium,N-decyl-N,N-dimethyl-,chloride.
|  | 1-Octanaminium,N,N-dimethyl-N-octyl-,chloride.
|  | Alkyl*dimethylbenzylammoniumchloride*(50%C14,40%C12,10%C16).
000279-03345 | F6135 G Insecticide | Bifenthrin.
000538-00159 | Proturf Fungicide VI | Iprodione.
000538-00163 | Scotts Super Bonus S Weed Control Plus Lawn Fertilizer | Atrazine.
000538-00236 | Private Label Feed and Weed | Mecoprop-P 2-4,D.
000538-00266 | Grubex | Benzoic acid,4-chloro-,2-benzoyl-2-(1,1-dimethylethyl) hydrazide.
000655-00690 | Prentox Pyronyl Horse Insecticide and Fly Repellent | Pyrethrins.
|  | Butoxypolypropyleneglycol.
|  | Piperonyl butoxide.
000773-00066 | Ectiban Insecticide Pour-On | Permethrin.
000869-00039 | Green Light Wettable Dusting Sulphur | Sulfur.
000869-00234 | Green Light Conquest Indoor & Outdoor Pest Control | Permethrin.
000869-00239 | Green Light Com-Pleet 18% Systemic Grass & Weed Killer | Glyphosate-isopropylammonium.
000869-00240 | Green Light Com-Pleet 1.92% Systemic Grass & Weed Kille | Glyphosate-isopropylammonium.
000869-00241 | Green Light Com-Pleet Systemic Grass & Weed Killer | Glyphosate-isopropylammonium.
000869-00244 | Green Light Permethrin Dust | Permethrin.
001381-00206 | Gallant 1.6l | Imidacloprid.
001448-00108 | W-60-7 | Poly(oxy-1,2-ethanediyl(dimethylimino)-1,2-ethanediyl(dimethylimino)-1,2-ethanediyldichloride.
001448-00109 | W-60-6 | Poly(oxy-1,2-ethanediyl(dimethylimino)-1,2-ethanediyl(dimethylimino)-1,2-ethanediyldichloride.
001448-00110 | W-60-5 | Poly(oxy-1,2-ethanediyl(dimethylimino)-1,2-ethanediyl(dimethylimino)-1,2-ethanediyldichloride.
001448-00205 | W-15-3 | Poly(oxy-1,2-ethanediyl(dimethylimino)-1,2-ethanediyl(dimethylimino)-1,2-ethanediyldichloride.
001448-00206 | W-15-4 | Poly(oxy-1,2-ethanediyl(dimethylimino)-1,2-ethanediyl(dimethylimino)-1,2-ethanediyldichloride.
001448-00207 | W-15-5 | Poly(oxy-1,2-ethanediyl(dimethylimino)-1,2-ethanediyl(dimethylimino)-1,2-ethanediyldichloride.
001448-00208 | W-15-6 | Poly(oxy-1,2-ethanediyl(dimethylimino)-1,2-ethanediyl(dimethylimino)-1,2-ethanediyldichloride.
001448-00216 | B-7-1 | Poly(oxy-1,2-ethanediyl(dimethylimino)-1,2-ethanediyl(dimethylimino)-1,2-ethanediyldichloride.
001448-00217 | B-7-2 | Poly(oxy-1,2-ethanediyl(dimethylimino)-1,2-ethanediyl(dimethylimino)-1,2-ethanediyldichloride.
001448-00218 | B-7-3 | Poly(oxy-1,2-ethanediyl(dimethylimino)-1,2-ethanediyl(dimethylimino)-1,2-ethanediyldichloride.
001448-00234 | W-30-3 | Poly(oxy-1,2-ethanediyl(dimethylimino)-1,2-ethanediyl(dimethylimino)-1,2-ethanediyldichloride.
001448-00235 | W-30-4 | Poly(oxy-1,2-ethanediyl(dimethylimino)-1,2-ethanediyl(dimethylimino)-1,2-ethanediyldichloride.
001448-00236 | W-30-5 | Poly(oxy-1,2-ethanediyl(dimethylimino)-1,2-ethanediyl(dimethylimino)-1,2-ethanediyldichloride.
001448-00237 | W-30-6 | Poly(oxy-1,2-ethanediyl(dimethylimino)-1,2-ethanediyl(dimethylimino)-1,2-ethanediyldichloride.
001448-00302 | W-60-9 | Poly(oxy-1,2-ethanediyl(dimethylimino)-1,2-ethanediyl(dimethylimino)-1,2-ethanediyldichloride.
001448-00305 | W-60-10 | Poly(oxy-1,2-ethanediyl(dimethylimino)-1,2-ethanediyl(dimethylimino)-1,2-ethanediyldichloride.
001448-00378 | Busan 1303 | Poly(oxy-1,2-ethanediyl(dimethylimino)-1,2-ethanediyl(dimethylimino)-1,2-ethanediyldichloride.
001529-00035 | Fungitrol 334 Fungicide | Tributyltinbenzoate.
001529-00039 | Nuosept 485 Preservative | 1,2-Benzisothiazolin-3-one.
002217-00332 | Vapona Insecticide Dairy Cattle Spray | Dichlorvos.
002724-00580 | SPI Automatic Fogger | Permethrin.
002724-00581 | Speer Multi-Purpose Insecticide Spray | Permethrin.
003525-00102 | Winter Tablets “W” | Copper sulfate pentahydrate.
004822-00274 | Raid Formula 274 Insect Killer | Permethrin.
|  | d-Allethrin.
004822-00277 | Raid Formula 277 Insect Killer | Permethrin.
|  | d-Allethrin.
004822-00551 | Raid Yard Guard Pld | Permethrin.
|  | d-Allethrin.
005383-00119 | Polyphase 685 | Ziram.
|  | Carbamic acid,butyl-,3-iodo-2-propynyl ester.
005383-00131 | Micropel It 10 Pvc | Octhilinone.
005785-00062 | Bromo-Tabs | 2,4-Imidazolidinedione,1-bromo-3-chloro-5,5-dimethyl-.
007401-00463 | Hi-Yield (r) Acephate | Acephate.
007969-00122 | Basagran DF Herbicide | 3-Isopropyl-1H-2,1,3-benzothiadiazin-4(3H)-one-2,2-dioxide,sodium salt.
007969-00240 | Bas 500 ST Seed Treatment Fungicide | Pyraclostrobin.
009150-00010 | Cryocide Disinfecting Concentrate | Chlorinedioxide.
|  | 1-Decanaminium,N-decyl-N,N-dimethyl-,chloride.
009198-00152 | The Andersons Pcnb Granular Plus Fertilizer | Pentachloronitrobenzene.
010807-00061 | Misty Dualcide | Phenothrin.
|  | Tetramethrin.
010807-00074 | Misty Delete 3% Multipurpose Spray | Resmethrin.
010807-00094 | Clear Lemon 10 Disinfectant | Alkyl*dimethylbenzylammoniumchloride*(60%C14,30%C16,5%C18,5%C12).
|  | Alkyl*dimethylethylbenzylammoniumchloride*(68%C12,32%C14).
010807-00099 | Misty WK-44 Liquid Weed Killer | Bromacil.
010807-00104 | Misty Clear-Mint 10 | Alkyl*dimethylbenzylammoniumchloride*(60%C14,30%C16,5%C18,5%C12).
|  | Alkyl*dimethylethylbenzylammoniumchloride*(68%C12,32%C14).
010807-00111 | Misty Clear-Pyne | Pineoil.
|  | Alkyl*dimethylbenzylammoniumchloride*(58%C14,28%C16,14%C12).
010807-00123 | Misty Flea Killer | Phenothrin.
010807-00151 | One Shot “foamy” Germicidal Cleaner & Deodorizer Rtu | Alkyl*dimethylbenzylammoniumchloride*(60%C14,30%C16,5%C18,5%C12).
|  | Alkyl*dimethylethylbenzylammoniumchloride*(68%C12,32%C14).
010807-00178 | Misty Disinfectant and Deodorant Rtu | Ethanol.
|  | o-Phenylphenol.
|  | 4-tert-Amylphenol.
010807-00182 | Misty 5016 | Phenothrin.
|  | Tetramethrin.
010807-00183 | Misty 5001 | Permethrin.
010807-00195 | Misty General Purpose Insect Killer with Sumithrin | Phenothrin.
010807-00210 | Weed and Vegetation Killer | Bromacil.
010807-00211 | Misty Gwk-Four | Bromacil.
013799-00026 | Four Paws Protector Quick Kill Flea & Tick Spray | Pyrethrins.
|  | Permethrin.
019713-00377 | Maneb Technical | Maneb.
033176-00044 | Airysol Brand Moth Sentry | Permethrin.
035935-00071 | Nicosulfuron Technical | Nicosulfuron.
039967-00046 | Preventol Ct-L | Sodium p-chloro-m-cresolate.
|  | Octhilinone.
039967-00051 | Preventol Hs 100-Cs50 | Deltamethrin.
039967-00060 | Tcmtb 80 | 2-(Thiocyanomethylthio)benzothiazole.
039967-00067 | Preventol TC 60 | 2-(Thiocyanomethylthio)benzothiazole.
039967-00072 | Tcmtb 30 G | 2-(Thiocyanomethylthio)benzothiazole.
039967-00078 | Tcmtb 30 WB | 2-(Thiocyanomethylthio)benzothiazole.
051036-00421 | Basagran AG | 3-Isopropyl-1H-2,1,3-benzothiadiazin-4(3H)-one-2,2-dioxide,sodium salt.
053883-00098 | Prometon 25E | Prometon.
053883-00099 | Prometon 4SC | Prometon.
053883-00100 | S-Methoprene Bait | S-Methoprene.
053883-00235 | Weed Preventer Plus Fertilizer | Trifluralin.
058779-00003 | Steris-Hydrogen Peroxide Sterilant | Hydrogen peroxide.
060063-00031 | Torrent 2F | Imidacloprid.
060063-00032 | Torrent 1.6F | Imidacloprid.
060063-00033 | Torrent 4f | Imidacloprid.
066222-00064 | Thionex Technical Insecticide | Endosulfan.
066330-00218 | Linuron 4L Weed Killer | Linuron.
066330-00222 | Trifluralin 4ec | Trifluralin.
066330-00226 | Trifluralin 4 TSF | Trifluralin.
066330-00270 | Asulam Liquid Herbicide | Asulam,sodium salt.
066330-00357 | Acephate Technical | Acephate.
070506-00193 | Penncap-M Microencapsulated Insecticide | Methylparathion.
AL810025 | Sencor Df 75% Dry Flowable Herbicide | Metribuzin.
AR070009 | Endigo ZC | Thiamethoxam, lambda-Cyhalothrin.
AR790014 | Sencor 4 Flowable Herbicide | Metribuzin.
AR960006 | Prometryne 4l Herbicide | Prometryn.
AZ050007 | Gaucho 600 Flowable | Imidacloprid.
AZ060003 | Devrinol 50-DF Selective Herbicide | Napropamide.
AZ070008 | Talus 40 SC Insect Growth Regulator | Buprofezin.
CA060010 | Liberty 280 Sl Herbicide | Glufosinate.
CA060011 | Ignite 280 SL Herbicide | Glufosinate.
CA790234 | Sencor DF 75% Dry Flowable Herbicide | Metribuzin.
CA840007 | Sencor DF 75% Dry Flowable Herbicide | Metribuzin.
CA870039 | Sencor DF 75% Dry Flowable Herbicide | Metribuzin.
CA890004 | Sencor DF 75% Dry Flowable Herbicide | Metribuzin.
CA950002 | Metasystox-R Spray Concentrate | Oxydemeton-methyl.
CA970032 | 98-2 | Methylbromide.
CO020004 | Flufenacet DF Herbicide | Flufenacet.
DE080002 | Dupont Coragen Insect Control | Chlorantraniliprole.
FL030014 | Switch 62.5wg | Cyprodinil.
|  | Fludioxonil.
FL040007 | Bravo Weather Stik | Chlorothalonil.
FL080006 | Mocap EC Nematicide—Insecticide | Ethoprop.
FL940005 | Orbit Fungicide | Propiconazole.
FL970008 | 98-2 | Methylbromide.
GA040005 | Bravo Weather Stik | Chlorothalonil.
GA800021 | Sencor 4 Flowable Herbicide | Metribuzin.
ID010019 | Axiom Df Herbicide | Metribuzin.
|  | Flufenacet.
ID060002 | Platinum | Thiamethoxam.
ID060005 | LSP Flowable Fungicide | Thiabendazole.
ID810045 | Sencor 4 Flowable Herbicide | Metribuzin.
ID810046 | Sencor 75 Wettable Granular Herbicide | Metribuzin.
ID870016 | Sencor 4 Flowable Herbicide | Metribuzin.
ID870017 | Sencor DF 75% Dry Flowable Herbicide | Metribuzin.
ID950004 | Sencor DF 75% Dry Flowable Herbicide | Metribuzin.
ID990017 | Starane | Fluroxypyr.
IL080001 | Treeage-Age | Emamectin benzoate.
IN080001 | Tree-Age | Emamectin benzoate.
KS040009 | Agrisolutions Atrazine 4l | Atrazine.
KS080001 | Quilt Fungicide | Propiconazole.
|  | Azoxystrobin.
KY090029 | Tree-Age | Emamectin benzoate.
MD090001 | Tree-Age | Emamectin benzoate.
ME080002 | Dupont Coragen Insect Control | Chlorantraniliprole.
ME790009 | Sencor 4 Flowable Herbicide | Metribuzin.
MI050002 | Actellic 5 E Insecticide | Pirimiphos-methyl.
MI080001 | Tree-Age | Emamectin benzoate.
MI980002 | Transline | 3,6-Dichloro-2-pyridinecarboxylicacid,alkanolaminesalts(of ethanol and isopropanol series.
MN010004 | Flufenacet Df Herbicide | Flufenacet.
MN030016 | Fusilade DX Herbicide | Propanoic acid,2-(4-((5-(trifluoromethyl)-2-pyridinyl)oxy)phenoxy)-,butylester,(R)-.
MN080009 | Tree-Age | Emamectin benzoate.
MO080006 | Tree-Age | Emamectin benzoate.
MO100003 | Callisto Herbicide | Mesotrione.
MO840003 | Sencor DF 75% Dry Flowable Herbicide | Metribuzin.
MS050017 | Bravo Weather Stik | Chlorothalonil.
MS060010 | Yuma 4E | Chlorpyrifos.
MS800002 | Sencor 4 Flowable Herbicide | Metribuzin.
MS970001 | Prowl 3.3 EC Herbicide | Pendimethalin.
MT950007 | Sencor DF 75% Dry Flowable Herbicide | Metribuzin.
NC830012 | Dupont Velpar L Weed Killer | Hexazinone.
NC840005 | Sencor DF 75% Dry Flowable Herbicide | Metribuzin.
ND040010 | Sencor DF 75% Dry Flowable Herbicide | Metribuzin.
ND060004 | LSP Flowable Fungicide | Thiabendazole.
ND100004 | Callisto Herbicide | Mesotrione.
NE020001 | Gustafson LSP Flowable Fungicide | Thiabendazole.
NM950002 | Atroban 11% EC | Permethrin.
NM990004 | Atroban 11% EC | Permethrin.
NV060008 | Baythroid XL | beta-Cyfluthrin.
NY040001 | Sencor Df 75% Dry Flowable Herbicide | Metribuzin.
OK060003 | Gustafson Lsp Flowable Fungicide | Thiabendazole.
OR000003 | Rely Herbicide | Glufosinate.
OR040020 | Guthion Solupak 50% Wettable Powder Insecticide | Azinphos-Methyl.
OR050004 | Subdue Maxx | D-Alanine,N-(2,6-dimethylphenyl)-N-(methoxyacetyl)-,methylester.
OR060002 | LSP Flowable Fungicide | Thiabendazole.
OR060003 | LSP Flowable Fungicide | Thiabendazole.
OR060015 | Platinum | Thiamethoxam.
OR070029 | Define DF Herbicide | Flufenacet.
OR070031 | Define DF Herbicide | Flufenacet.
OR090004 | Nemacur 3 | Fenamiphos.
OR920023 | Diuron 80DF | Diuron.
OR940025 | Diuron 4l | Diuron.
OR990043 | Starane | Fluroxypyr.
PA090001 | Tree-Age | Emamectin benzoate.
RI090003 | Temik Brand 15g Aldicarb Pesticide | Aldicarb.
SD030002 | Trust 4EC | Trifluralin.
SD040008 | Journey Herbicide | Imazapic.
|  | Glyphosate-isopropylammonium.
SD040010 | Habitat Herbicide | 2-(4,5-Dihydro-4-methyl-4-(1-methylethyl)-5-oxo-1H-imidazol-2-yl)-3-pyridinecarboxylicacid.
SD060007 | LSP Flowable Fungicide | Thiabendazole.
SD980002 | Trifluralin 4EC | Trifluralin.
TX030006 | Dual Magnum Herbicide | S-Metolachlor.
TX070011 | Talus 40 SC Insect Growth Regulator | Buprofezin.
VA080008 | Treeage-Age | Emamectin benzoate.
WA000005 | Prowl 3.3 EC Herbicide | Pendimethalin.
WA030025 | Guthion Solupak 50% Wettable Powder Insecticide | Azinphos-Methyl.
WA040031 | Sencor Df 75% Dry Flowable Herbicide | Metribuzin.
WA040033 | Sencor DF 75% Dry Flowable Herbicide | Metribuzin.
WA050001 | Rely Herbicide | Glufosinate.
WA060004 | LSP Flowable Fungicide | Thiabendazole.
WA090006 | Nemacur 3 Emulsifiable Insecticide-Nematicide | Fenamiphos.
WA810033 | Temik(r) Aldicarb Pesticide 15% Granular | Aldicarb.
WA900013 | Sevin Brand 80 S Carbaryl Insecticide | Carbaryl.
WI040005 | Echo 720 Agricultural Fungicide | Chlorothalonil.
WI040006 | Echo ZN Agricultural Fungicide | Chlorothalonil.
WI080005 | Tree-Age | Emamectin benzoate.
WV080002 | Tree-Age | Emamectin benzoate.

Table 3 of this unit includes the names and addresses of record for all registrants of the products in Tables 1 and 2 of this unit, in sequence by EPA company number. This number corresponds to the first part of the EPA registration numbers of the products listed in this unit.

Table 3—Registrants Requesting Voluntary Cancellation
EPA company No. | Company name and address
100 | Syngenta Crop Protection, LLC., P.O. Box 18300, Greensboro, NC 27419-8300.
228 | Nufarm Americas, Inc., 150 Harvester Drive, Suite 200, Burr Ridge, IL 60527.
239 | The Scotts Co., d/b/a The Ortho Group, P.O. Box 190, Marysville, OH 43040.
241 | BASF Corp., 26 Davis Drive, P.O. Box 13528, Research Triangle Park, NC 27709-3528.
264 | Bayer Cropscience, LP, P.O. Box 12014, Research Triangle Park, NC 27709.
270 | Farnam Companies, Inc., d/b/a Central Life Sciences, 301 West Osborn Road, Phoenix, AZ 85013.
279 | FMC Corp., Agricultural Products Group,, Attn: Michael C. Zucker, 1735 Market Street, Room 1978, Philadelphia, PA 19103.
432 | Bayer Environmental Science, 2 T. W. Alexander Drive, P.O. Box 12014, Research Triangle Park, NC 27709.
538 | Scotts Co., The 14111 Scottslawn Rd., Marysville, OH 43041.
655 | Prentiss, LLC Agent: Pyxis Regulatory Consulting, Inc., 4110 136th Street, NW., Gig Harbor, WA 98332.
773 | Intervet, Inc., 556 Morris Ave., S5-2145A, Summit, NJ 07901.
869 | Valent U.S.A. Corp., Agent For: Green Light Co., 1101 14th Street NW., Suite 1050, Washington, DC 20005.
1381 | Winfield Solutions, LLC, P.O. Box 64589, St. Paul, MN 55164-0589.
1448 | Buckman Laboratories, Inc., 1256 North Mclean Blvd., Memphis, TN 38108.
1529 | International Specialty Products, 1361 Alps Road, Wayne, NJ 07470.
2217 | PBI/Gordon Corp., P.O. Box 014090, Kansas City, MO 64101-0090.
2724 | Wellmark International, 1501 E. Woodfield Rd., Suite 200, W. Schaumburg, IL 60173.
2749 | Aceto Agricultural Chemicals Corp., One Hollow Lane, Lake Success, NY 11042-1215.
3525 | Qualco, Inc., 225 Passaic St., Passaic, NJ 07055.
4822 | S.C. Johnson & Son, Inc., 1525 Howe St., Racine, WI 53403.
5383 | Troy Chemical Corp., P.O. Box 955, Florham Park, NJ 07932-4200.
5785 | Great Lakes Chemical Corporation, Agent: Chem Corp., 1801 Highway 52, West Lafayette, IN 47996-2200.
7401 | Mandava Associates, LlC, Agent For: Voluntary Purchasing Groups, Inc., 6860 N. Dallas Pkwy, Suite 200, Plano, TX 75024.
7969 | BASF Corp. Agricultural Products, P.O. Box 13528, Research Triangle Park, NC 27709-3528.
9150 | International Dioxicide, Inc., 40 Whitecape Drive, North Kingstown, RI 02852.
9198 | The Andersons Lawn Fertilizer Division, Inc., d/b/a Free Flow Fertilizer, P.O. Box 119, Maumee, OH 43537.
10807 | Amrep, Inc., 990 Industrial Park Drive, Marietta, GA 30062.
13799 | Four Paws Products, Ltd., 50 Wireless Blvd., Hauppauge, NY 11788.
19713 | Drexel Chemical Co., P.O. Box 13327, Memphis, TN 38113-0327.
33176 | Amrep, Inc., 990 Industrial Park Dr., Marietta, GA 30062.
35935 | Nufarm Limited, P.O. Box 13439, Research Triangle Park, NC 27709.
37982 | Pioneer Americas, LLC, 490 Stuart Road, NE., Cleveland, TN 37312.
39967 | Lanxess Corp., 111 Ridc Park W. Drive, Pittsburgh PA 15275-1112.
45851 | Pool Chlor of Nevada, Inc., 3590 Dewey Drive, Las Vegas, NV 89118.
51036 | BASF Sparks, LLC, P.O. Box 13528, Research Triangle Park, NC 27709-3528.
53883 | Control Solutions, Inc., 5903 Genoa-Red Bluff Road, Pasadena, TX 77507-041.
56410 | Riveroaks Chemical Company, 714 Herrick Court, Katy, TX 77450.
58779 | Steris Corp., P.O. Box 147, St. Louis, MO 63166-0647.
60063 | Sipcam Agro U.S.A., Inc., 2520 Meridian Pkwy., Suite 525, Durham, NC 27713.
66222 | Makhteshim-Agan of North America, Inc., 4515 Falls of Neuse Rd., Suite 300, Raleigh, NC 27609.
66330; WA050008 | Arysta Lifescience North America, LLC, 15401 Weston Parkway, Suite 150, Cary, NC 27513.
66591 | Green Products Co., 810 Market Ave., Richmond, CA 94801-1325.
68708 | Nalco Company, 1601 W. Diehl Rd., Naperville, IL 60563.
70299 | Biosafe Systems, LLC, 22 Meadow Street, East Hartford, CT 06108.
70506 | United Phosphorus, Inc., 630 Freedom Business Center, Suite 402, King of Prussia, PA 19406.
74530 | Helm Agro U.S., Inc., Agent: Ceres International, LLC, 1087 Heartsease Drive, West Chester, PA 19382.
MS970001; SD040008; SD040010; WA000005; WA080012 | BASF Corp., P.O. Box 13528, Research Triangle Park, NC 27709-3528.
AL810025; AR790014; AZ050007; CA060010; CA060011; CA790234; CA840007; CA870039; CA890004; CO020004; FL080006; GA800021; ID010019; ID060005; ID810045; ID810046; ID870016; ID870017; ID950004; ME790009; MN010004; MO840003; MS800002; MT950007; NC840005; ND040010; ND060004; NE020001; NV060008; NY040001; OK060003; OR000003; OR040020; OR060002; OR060003; OR070029; OR070031; OR090004; RI090003; SD060007; WA030025; WA040031; WA040033; WA050001; WA060004; WA090006; WA810033; WA900013 | Bayer Cropscience, LP, P.O. Box 12014, Research Triangle Park NC 27709.
VT900002 | Bonide Products, Inc., Agent: Registrations by Design, Inc., P.O. Box 1019, Salem, VA 24153-3805.
CA030009 | Department of Pesticide Regulation, 1001 I Street, P.O. Box 4015, Sacramento, CA 95812-4015.
ID990017; MI980002; OR990043; AZ060005; AZ980001 | Dow Agrosciences, LlC 9330, Zionsville Rd 308/2e, Indianapolis, IN 46268-1054.
OR060018 | Easter Lily Research Foundation (of the) Pacific Bulb Growers Association, P.O. Box 907, Brookings, OR 97415.
DE080002; ME080002; NC830012 | E. I. Du Pont De Nemours & Co., Inc. (s300/419), Attn: Manager, U.S. Registration, Dupont Crop Protec, Wilmington DE 19898-0001.
OR080003 | FMC Corporation, Agricultural Products Group, 1735 Market Street, Rm. 1978, Philadelphia, PA 19103.
FL040007; GA040005; MS050017 | GB Biosciences Corp., P.O. Box 18300, Greensboro NC 27419-5458.
CA950002 | Gowan Co., P.O. Box 5569, Yuma, AZ 85366-5569.
WA060001 | Griffin, L.L.C., Agent: DuPont Crop Protection/Stine-Haskell Research Center, P.O. Box 30, Newark, DE 19714-0030.
CA970032; FL970008 | ICL-IP America, Inc., 95 Maccorkle Ave., Southwest, South Charleston, WV 25303.
NM950002; NM990004 | Intervet, Inc., 56 Livingston Ave., R-3-3153g, Roseland, NJ 70698.
OR060026 | Liphatech, Inc., 3600 West Elm Street, Milwaukee, WI 53209.
TX070011; AZ070008 | Nichino America, Inc., 4550 New Linden Hill Rd., Suite 501, Wilmington, DE 19808.
HI090002 | Nod Apiary Products USA, Inc., 8345 NW 66th Street, #8418, Miami, FL 33166-2626.
AZ050001 | Nufarm Americas, Inc., 150 Harvester Drive, Suite 200, Burr Ridge, IL 60527.
WI040005; WI040006 | Sipcam Agro U.S.A., Inc., 2520 Meridian Pkwy., Suite 525, Durham, NC 27713.
AR070009; FL030014; FL940005; ID060002; IL080001; IN080001; KS080001; KY090029; MD090001; MI080001; MN030016; MN080009; MO080006; MO100003; ND100004; OR050004; OR060015; PA090001; TX030006; VA080008; WI080005; WV080002 | Syngenta Crop Protection, Inc., Attn: Regulatory Affairs, P.O. Box 18300, Greensboro, NC 27419-8300.
AZ060003 | United Phosphorus, Inc., 630 Freedom Business Center, Suite 402, King of Prussia, PA 19406.
AZ050011; AZ960003 | Valent U.S.A. Corporation, 1600 Riviera Avenue, Suite 200, Walnut Creek, CA 94596.
AR960006; KS040009; MI050002; MS060010; OR920023; OR940025; SD030002; SD980002 | Winfield Solutions, LLC, P.O. Box 64589, St Paul, MN 55164-0589.

III. What is the Agency's authority for taking this action?

Section 6(f)(1) of FIFRA provides that a registrant of a pesticide product may at any time request that any of its pesticide registrations be canceled. FIFRA further provides that, before acting on the request, EPA must publish a notice of receipt of any such request in the Federal Register.

Section 6(f)(1)(B) of FIFRA requires that before acting on a request for voluntary cancellation, EPA must provide a 30-day public comment period on the request for voluntary cancellation or use termination. In addition, FIFRA section 6(f)(1)(C) requires that EPA provide a 180-day comment period on a request for voluntary cancellation or termination of any minor agricultural use before granting the request, unless:

1. The registrants request a waiver of the comment period, or

2. The EPA Administrator determines that continued use of the pesticide would pose an unreasonable adverse effect on the environment.

The registrants in Table 3 of Unit II. have not requested that EPA waive the 180-day comment period. Accordingly, EPA will provide a 180-day comment period on the proposed requests.

IV. Procedures for Withdrawal of Request

Registrants who choose to withdraw a request for cancellation should submit such withdrawal in writing to the person listed under FOR FURTHER INFORMATION CONTACT. If the products have been subject to a previous cancellation action, the effective date of cancellation and all other provisions of any earlier cancellation action are controlling.

V. Provisions for Disposition of Existing Stocks

Existing stocks are those stocks of registered pesticide products that are currently in the United States and that were packaged, labeled, and released for shipment prior to the effective date of the cancellation action. Because the Agency has identified no significant potential risk concerns associated with these pesticide products, upon cancellation of the products identified in Tables 1 and 2 of Unit II. the existing stocks will be as follows:

A. Registrations Listed in Table 1 of Unit II

The Agency anticipates allowing registrants to sell and distribute existing stocks of these products for 1 year after publication of the Cancellation Order in the Federal Register. Thereafter, registrants will be prohibited from selling or distributing the pesticides identified in Table 1 of Unit II., except for export consistent with FIFRA section 17 or for proper disposal. Persons other than registrants will generally be allowed to sell, distribute, or use existing stocks until such stocks are exhausted, provided that such sale, distribution, or use is consistent with the terms of the previously approved labeling on, or that accompanied, the canceled products.

B. Registrations Listed in Table 2 of Unit II

The effective date of cancellation will be the date of the cancellation order. The Agency anticipates allowing registrants to sell and distribute existing stocks of these products until January 15, 2012, 1 year after the date on which the maintenance fee was due. Thereafter, registrants will be prohibited from selling or distributing the pesticides identified in Table 2 of Unit II., except for export consistent with FIFRA section 17 or for proper disposal. Persons other than registrants will generally be allowed to sell, distribute, or use existing stocks until such stocks are exhausted, provided that such sale, distribution, or use is consistent with the terms of the previously approved labeling on, or that accompanied, the canceled products.

List of Subjects

Environmental protection, Pesticides and pests.

Dated: April 14, 2011.
Peter Caulkins,
Acting Director, Pesticide Re-evaluation Division, Office of Pesticide Programs.

[FR Doc. 2011-9935 Filed 4-26-11; 8:45 am]

BILLING CODE 6560-50-P